DEPARTMENT OF TRANSPORTATION

Federal Highway Administration

Notice of Final Federal Agency Actions on Proposed Highway in Utah

AGENCY: Federal Highway Administration (FHWA), DOT.

ACTION: Notice of Limitation of Claims for Judicial Review of Actions by FHWA and Other Federal Agencies.

SUMMARY: This notice announces actions taken by the FWHA that are final within the meaning of 23 U.S.C. 139(l)(1). The actions relate to the proposed 106th South, Redwood Road to Jordan Gateway, Project in Salt Lake County in the State of Utah. These actions grant approvals for the project.

DATES: By this notice, FHWA is advising the public of final agency actions subject to 23 U.S.C. 139(l)(1). A claim seeking judicial review of FHWA actions on the highway project will be barred unless the claim is filed on or before March 20, 2017. If the Federal law that authorizes judicial review of a claim provides a time period of less than 150 days for filing such claim, then that shorter time period still applies.

FOR FURTHER INFORMATION CONTACT: Bryan Dillon, Area Engineer, FHWA Utah Division, 2520 West 4700 South, Suite 9A, Salt Lake City, Utah 84129; telephone: 801-955-3517; email: bryan.dillon@dot.gov. The FHWA Utah Division Office's normal business hours are 7:30 a.m. to 4:30 p.m. (Mountain Standard Time), Monday through Friday, except Federal holidays.

SUPPLEMENTARY INFORMATION: Notice is hereby given that FHWA has taken final agency action subject to 23 U.S.C. 139(l)(1) by issuing licenses, permits, and approvals for the 106th South, Redwood Road to Jordan Gateway, Project in the State of Utah. The 106th South, Redwood Road to Jordan Gateway, Project proposes to provide transportation improvements along 106th South between Redwood Road and Jordan Gateway in South Jordan City, Salt Lake County, Utah.

The project consists of the following improvements: Add one travel lane in each direction between Redwood Road and Jordan Gateway, generally within the present roadway width; Provide 5-ft shoulder for bicyclists where right turns are not required and 8-ft outside shoulders where there are existing access points for right turns; Maintain two-way left-turn lane between approximately 1540 West and 1300 West; Remove pedestrian structure at 1300 West; Add dual left-turn lanes on all four legs of the 1300 West and 10600 South Intersection; Remove the landscaped center median and replace it in most locations with back-to-back curb between 1300 West and Jordan Gateway; Maintain existing left turn accesses at all locations with the exception of the access into the office plaza at 406 South Jordan Parkway which would be restricted to a right-in/right-out only access; Re-stripe River Front Parkway and 10600 South Intersection to include dual left-turn and dual right-turn lanes; Add dual left-turn lanes on all four legs of the Jordan Gateway and 10600 South Intersection; and Incorporate Transportation Management System (TSM) activities or strategies to maximize the efficiency of the existing system (e.g., signal coordination and optimization, Intelligent Transportation Systems (ITS), and access management).

The actions by FHWA and the laws under which such actions were taken are described in the Environmental Assessment (EA) and Section 4(f) Evaluation and in the Finding of No Significant Impact (FONSI) issued on September 21, 2016.

This notice applies to all FHWA decisions as of the issuance date of this notice and all laws under which such actions were taken. Laws generally applicable to such actions include but are not limited to:

• General: National Environmental Policy Act (NEPA) [42 U.S.C. 4321-4351; Federal-Aid Highway Act [23 U.S.C. 109].

• Wildlife: Endangered Species Act [16 U.S.C. 1531-1544 and 1536]; Fish and Wildlife Coordination Act [16 U.S.C. 661-667(d); Migratory Bird Treaty Act [16 U.S.C. 703-712].

• Cultural Resources: Section 106 of the National Historic Preservation Act of 1966, as amended [16 U.S.C. 470(f) et seq.]; Archaeological and Historic Preservation Act [16 U.S.C. 469-469(c)]; Archaeological Resources Protection Act of 1977 [16 U.S.C. 470(aa)-11].

• Noise: Federal-Aid Highway Act of 1970 [Pub. L. 91-605, 84 Stat. 1713]

• Executive Orders: E.O. 11593 Protection and Enhancement of Cultural Resources; E.O. 13287 Preserve America.

(Catalog of Federal Domestic Assistance Program Number 20.205, Highway Planning and Construction. The regulations implementing Executive Order 12372 regarding intergovernmental consultation on Federal programs and activities apply to this program.)

Authority: 23 U.S.C. 139(l)(1).

Ivan Marrero,
Division Administrator, Federal Highway Administration.

[FR Doc. 2016-25256 Filed 10-20-16; 8:45 am]

BILLING CODE 4910-RY-P